DEPARTMENT OF THE INTERIOR

Fish and Wildlife Service

[FWS-R8-ES-2010-N256; 80221-1113-0000-F5]

Endangered Species Recovery Permit Applications

AGENCY: Fish and Wildlife Service, Interior.

ACTION: Notice of receipt of permit applications; request for comment.

SUMMARY: We, the U.S. Fish and Wildlife Service, invite the public to comment on the following applications to conduct certain activities with endangered species. With some exceptions, the Endangered Species Act (Act) prohibits activities with endangered and threatened species unless a Federal permit allows such activity. The Act also requires that we invite public comment before issuing these permits.

DATES: Comments on these permit applications must be received on or before December 15, 2010.

ADDRESSES: Written data or comments should be submitted to the U.S. Fish and Wildlife Service, Endangered Species Program Manager, Region 8, 2800 Cottage Way, Room W-2606, Sacramento, CA 95825 (telephone: 916-414-6464; fax: 916-414-6486). Please refer to the respective permit number for each application when submitting comments.

FOR FURTHER INFORMATION CONTACT: Daniel Marquez, Fish and Wildlife Biologist; see ADDRESSES (telephone: 760-431-9440; fax: 760-431-9624).

SUPPLEMENTARY INFORMATION: The following applicants have applied for scientific research permits to conduct certain activities with endangered species under section 10(a)(1)(A) of the Act (16 U.S.C. 1531 et seq.). We seek review and comment from local, State, and Federal agencies and the public on the following permit requests. Before including your address, phone number, e-mail address, or other personal identifying information in your comment, you should be aware that your entire comment—including your personal identifying information—may be made publicly available at any time. While you can ask us in your comment to withhold your personal identifying information from public review, we cannot guarantee that we will be able to do so.

Permit No. TE-25164A

Applicant: Catherine A. Little, Woodland, California. The applicant requests a permit to take (capture, collect, and kill) the Conservancy fairy shrimp (Branchinectaconservatio), the longhorn fairy shrimp (Branchinectalongiantenna), the Riverside fairy shrimp (Streptocephaluswootoni), the San Diego fairy shrimp (Branchinectasandiegonensis), and the vernal pool tadpole shrimp (Lepiduruspackardi) in conjunction with survey activities throughout the range of each species in California for the purpose of enhancing their survival.

Permit No. TE-25404A

Applicant: Summer N. Adleberg, San Diego, California. The applicant requests a permit to take (survey by pursuit) the Quino checkerspot butterfly (Euphydryasedithaquino) in conjunction with surveys throughout the range of the species in California for the purpose of enhancing its survival.

Permit No. TE-25864A

Applicant: Richard C. Stolpe, Carlsbad, California. The applicant requests a permit to take (capture, collect, and kill) the Conservancy fairy shrimp (Branchinectaconservatio), the longhorn fairy shrimp (Branchinectalongiantenna), the Riverside fairy shrimp (Streptocephaluswootoni), the San Diego fairy shrimp (Branchinectasandiegonensis), and the vernal pool tadpole shrimp (Lepiduruspackardi) in conjunction with survey activities throughout the range of each species in California for the purpose of enhancing their survival.

Permit No. TE-066621

Applicant: Naval Base Ventura County PointMugu, Point Mugu, California. The applicant requests an amendment to an existing permit (December 14, 2007, 72 FR 71145) to take (harass by survey and monitor nests) the light-footed clapper rail (Ralluslongirostrislevipes) in conjunction with surveys and monitoring activities throughout the range of the species in Ventura County, California for the purpose of enhancing its survival.

We invite public review and comment on each of these recovery permit applications. Comments and materials we receive will be available for public inspection, by appointment, during normal business hours at the address listed in the ADDRESSES section of this notice.

Larry Rabin,
Regional Director, Region 8, Sacramento, California.

[FR Doc. 2010-28593 Filed 11-12-10; 8:45 am]

BILLING CODE 4310-55-P